DEPARTMENT OF COMMERCE

National Oceanic and Atmospheric Administration

50 CFR Part 622

[Docket No. 121004515-3608-02]

RIN 0648-BC63

Fisheries of the Caribbean, Gulf of Mexico, and South Atlantic; Snapper-Grouper Fishery off the Southern Atlantic States; Amendment 28

AGENCY: National Marine Fisheries Service (NMFS), National Oceanic and Atmospheric Administration (NOAA), Commerce.

ACTION: Final rule.

SUMMARY: NMFS issues this final rule to implement Amendment 28 to the Fishery Management Plan for the Snapper-Grouper Fishery of the South Atlantic Region (FMP), as prepared by the South Atlantic Fishery Management Council (Council), and to set the commercial and recreational ACLs and fishing seasons for red snapper for the 2013 fishing year. Amendment 28 and this final rule establish a process for determining whether limited commercial and recreational fishing seasons for red snapper in or from the South Atlantic exclusive economic zone (EEZ) can occur during a given fishing year, beginning in 2013. Amendment 28 specifies the process and formulas for setting commercial and recreational annual catch limits (ACLs) for red snapper during limited fishing seasons. Amendment 28 and this final rule also establish management measures for red snapper during limited fishing seasons, including eliminating the red snapper minimum size limit, establishing a recreational bag limit, and establishing a commercial trip limit for red snapper. NMFS has determined that limited commercial and recreational fishing seasons can occur in 2013. Therefore, this final rule specifies the commercial and recreational ACLs for 2013, the opening and closing dates of the 2013 recreational fishing season, and the opening date of the 2013 commercial fishing season for South Atlantic red snapper. The purpose of this final rule is to continue rebuilding red snapper to sustainable levels and provide socio-economic benefits to snapper-grouper fishermen and communities that utilize the red snapper resource.

DATES: This rule is effective August 23, 2013.

ADDRESSES: Electronic copies of Amendment 28, which includes an environmental assessment and a regulatory impact review, may be obtained from the Southeast Regional Office Web site at http://sero.nmfs.noaa.gov/sf/pdfs/SGAmend28.pdf.

FOR FURTHER INFORMATION CONTACT: Rick DeVictor, Southeast Regional Office, telephone: 727-824-5305, or email: rick.devictor@noaa.gov.

SUPPLEMENTARY INFORMATION: The snapper-grouper fishery of the South Atlantic, which includes red snapper, is managed under the FMP. The FMP was prepared by the Council and is implemented through regulations at 50 CFR part 622 under the authority of the Magnuson-Stevens Fishery Conservation and Management Act (Magnuson-Stevens Act).

On March 12, 2013, NMFS published a notice of availability for Amendment 28 and requested public comment (78 FR 15672). On April 29, 2013, NMFS published a proposed rule for Amendment 28 and requested public comment (78 FR 25047). NMFS approved Amendment 28 on June 11, 2013. The proposed rule and Amendment 28 outline the rationale for the actions contained in this final rule. A summary of the actions implemented by Amendment 28 and this final rule is provided below.

Management Measures Contained in this Final Rule and Amendment 28

Process for Determining the Limited Annual Harvest of Red Snapper

Amendment 28 describes the annual process developed by the Council for determining whether limited commercial and recreational fishing seasons for red snapper can occur and how much red snapper may be harvested. The acceptable biological catch (ABC) is determined through the Council's ABC control rule and the rebuilding projections from the most recent stock assessment. The total removals (estimated landings and dead discards) of red snapper from the previous year are available around March of each year, and NMFS will compare the total removals to the ABC each year using formulas approved by the Council in Amendment 28 to determine whether limited fishing seasons can occur.

ACLs

Amendment 28 includes formulas for determining the commercial and recreational ACLs on an annual basis. The formulas are based on total removals from prior fishing years and the formulas provide the total ACL for limited fishing seasons. If limited fishing seasons can occur, the ACL will be divided between the commercial and recreational sectors based on the current allocation ratio.

Commercial and Recreational Red Snapper Fishing Seasons

In Amendment 28, the Council decided that if limited fishing seasons can occur, the commercial fishing season should begin on the second Monday in July, and the recreational fishing season, which would consist of weekends only (Fridays, Saturdays, and Sundays) on the second Friday in July. If the fishing seasons do not open exactly on these dates, they would open as close to these dates as possible. The Council also decided that if the projected commercial or recreational fishing season is determined by NMFS to be 3 days or less, then the commercial or recreational fishing season would not open for that fishing year.

If the NMFS Regional Administrator (RA) determines that tropical storm or hurricane conditions exist, or are projected to exist, in the South Atlantic during the commercial or recreational fishing seasons, this rule will allow the RA to modify the opening and closing dates by filing a notification to that effect with the Office of the Federal Register, and announcing via NOAA Weather Radio and Fishery Bulletin any change in the red snapper commercial or recreational fishing seasons.

AMs

During limited red snapper fishing seasons, the Council and NMFS have established in-season AMs to prevent the ACLs from being exceeded. The recreational AM is the length of the red snapper recreational fishing season, as determined for a specific fishing year. After the recreational sector closes, the bag and possession limits for red snapper are zero. The commercial AM is that when commercial landings reach or are projected to reach the commercial ACL, NMFS will close the commercial sector for red snapper for the remainder of the fishing year. After the commercial sector closes, sale and purchase of red snapper is prohibited and harvest and possession of red snapper is limited to the bag and possession limits until the recreational fishing season closes. If both the commercial and recreational sectors are closed, it is unlawful to harvest or possess red snapper.

Other Management Measures

In order to reduce the probability of an overage of the commercial and recreational ACLs during the limited open seasons, Amendment 28 and this rule implement a 75-lb (34-kg) commercial trip limit and a 1-fish per person recreational bag limit. This rule also removes the 20-inch (51-cm), total length (TL), minimum size limit for both the commercial and recreational sectors to decrease regulatory discards of red snapper (fish returned to the water because they are less than the minimum size limit).

Red Snapper Harvest in 2013

NMFS used the formulas established in Amendment 28 to determine if harvest of red snapper could occur in 2013. The total removals (landings plus dead discards) for 2012 were compared to the 2012 ABC to determine if the ABC was exceeded and thus whether the ACL for 2013 could be set greater than zero. In 2012, total removals equaled 80,516 fish. Because the 2012 total removals for red snapper are less than the 2012 ABC of 86,000 fish, NMFS has determined that the ACL for 2013 can be set greater than zero and that limited commercial and recreational fishing seasons may be established in 2013.

NMFS has determined that the total ACL for 2013 is 13,325 fish. Based on the current allocation ratio for red snapper (28.07 percent commercial and 71.93 percent recreational), the 2013 commercial ACL is 21,447 lb (9,728 kg), gutted weight, and the 2013 recreational ACL is 9,585 fish.

Based on the 2013 commercial and recreational ACLs and the catch rates from 2012, NMFS has determined the length of the commercial and recreational fishing seasons for 2013. The “2013 South Atlantic Red Snapper Annual Catch Limit and Season Length Projections,” described in SERO-LAPP-2013-04, can be found at http://sero.nmfs.noaa.gov/sustainable_fisheries/s_atl/sg/documents/pdfs/sa_rs_acl_season_projections.pdf. Based on the projections, NMFS has determined that the recreational fishing season in 2013 will be open for one weekend consisting of 3 days (Friday, Saturday, Sunday). Although the Council prefers to open the recreational and commercial fishing seasons in July, because of the required time for the rulemaking process for Amendment 28, the recreational and commercial fishing seasons will open in August for the 2013 fishing year. The Council determined that opening in July (or August) would decrease the chances of inclement weather, thus promoting safety-at-sea and increasing the chance of small vessels being able to target red snapper. The recreational fishing season will open at 12:01 a.m. on August 23, 2013, and close at 12:01 a.m. on August 26, 2013. After the recreational sector closes, harvest and possession of red snapper under the bag limit is prohibited. NMFS has determined that the commercial fishing season in 2013 will open at 12:01 a.m. on August 26, 2013, and NMFS will monitor commercial harvest in-season and close the commercial sector when the commercial ACL is reached or projected to be reached by filing an in-season closure notification with the Office of the Federal Register. After the commercial sector closes, the harvest and possession and sale and purchase of red snapper in or from the South Atlantic EEZ are prohibited.

Comments and Responses

A total of 63 comments were received on Amendment 28 and the proposed rule from individuals, commercial and recreational fishing associations, and two environmental organizations. Many commenters expressed support for red snapper fishing seasons because they have been encountering numerous red snapper while fishing and therefore believe that the red snapper stock is healthy enough to support increased harvest. Some commenters stated that the allowable harvest, bag limits, and trip limits contained in this final rule are too restrictive. Specific comments related to the actions contained in Amendment 28 and the proposed rule, and NMFS' respective responses are summarized below.

Comment 1: Numerous commercial and recreational fishermen stated that the red snapper stock is healthy and the proposed regulations would be overly restrictive. Recreational fishermen suggested a higher quota, a year-round season, 2-month closures during red snapper spawning periods, and a higher bag limit of two to five fish per person per day.

Response: South Atlantic red snapper are overfished and undergoing overfishing and their harvest has been prohibited since 2010. These regulations are intended to prevent overfishing of red snapper, while minimizing the potential adverse economic impacts from the closure.

A limited season to harvest red snapper and a conservative bag limit are necessary management measures to constrain the harvest to the ACL. A higher bag limit (e.g., two to five fish per person per day) would translate into an even shorter limited fishing season. The Council and NMFS determined that these regulations would allow a sustainable level of harvest consistent with the rebuilding plan for red snapper.

Comment 2: A fishing organization favored a 100-lb (45-kg) trip limit instead of the 75-lb (34-kg) trip limit, as contained in this final rule. A commercial fisherman stated that the 75-lb (34-kg) trip limit would only cover trip expenses and suggested that the trip limit should be increased to 150-200 lb (68-91 kg) to see a serious effort from the commercial sector. Another fisherman stated a 200-lb (91 kg) trip limit with a shortened fishing season would be a more economically-feasible option.

Response: The Council concluded that a 75-lb (34-kg) trip limit would promote full harvest of the commercial ACL and help achieve the optimum yield for red snapper. The commercial trip limit during the 2012 limited season was 50 lb (23 kg), gutted weight, and commercial landings in 2012 were lower than the 2012 commercial ACL. However, as trip limits increase, the rate at which the commercial ACL is harvested also increases. A 75-lb (34-kg) trip limit represents a precautionary increase to the 50-lb (23 kg) trip limit implemented for 2012. A higher trip limit with its corresponding higher rate of harvest could result in shorter commercial seasons and would likely lead to a derby fishery.

Comment 3: Numerous fishermen disagreed with the removal of the minimum size limit. Some stated that the minimum size limit was necessary to protect the breeding stock. Others stated that removal of the size limit would promote culling of fish (the practice of selectively landing fish so that only the largest fish are retained), which would lead to additional red snapper mortality. Some fishermen suggested retaining the 20-inch (51-cm) minimum size limit for both sectors; others recommended implementing a 16-inch (41-cm) minimum size limit for the commercial sector. Some fishermen suggested slot limits to preserve the breeding stock (e.g., 16 to 20 inches (41-51 cm) and 15 to 22 inches (38-56 cm)). Others suggested prohibiting the release of red snapper within the bag limits, i.e., fishermen would be required to keep what they catch.

Response: Because a large portion of released red snapper do not survive the trauma of capture, the Council and NMFS decided that removal of a minimum size limit is likely to reduce dead regulatory discards. Removing the minimum size limit should also have a positive effect on the breeding population because red snapper release mortality is high and red snapper begin spawning at a young age (as young as 1-year old fish) and at small sizes. However, the net effect of removing the minimum size limit on the number of regulatory discards is unknown. A fisherman may cull his catch regardless of whether a minimum size limit is in effect for red snapper. NMFS and the Council have determined that removing the minimum size limit and allowing a fisherman to keep the first fish caught, regardless of its size, should both protect the breeding stock and decrease regulatory discards because the fish will not have to be returned to the water.

Prohibiting the release of red snapper caught within the bag limits was discussed by the Council at its June 2012 meeting. However, the U.S. Coast Guard stated that this requirement would not be enforceable, therefore, the Council decided not to include this requirement in Amendment 28.

Comment 4: One fisherman stated that a mid-September fishing season would be better for fishermen in North Florida compared to the July fishing season, as contained in this final rule. The commenter stated that fish are offshore in July and too far offshore for small boat owners. The commenter also stated that tournaments occur in July which would conflict with a July fishing season and would increase traffic at the boat ramps.

Response: NMFS and the Council determined that having a limited fishing season in July (or in August for the 2013 fishing year) should decrease the chances of inclement weather events, thus promoting safety-at-sea and increasing the opportunity for small vessels to participate in the limited season. The Council also determined that a season beginning in July (or in August for the 2013 fishing year) would allow for better weather during a second opening of the fishing season, if a reopening was necessary as was the case for the commercial sector in 2012. In 2012, NMFS received many complaints from the recreational fishing community that inclement weather during the September weekends prevented fishermen, particularly those with smaller vessels, from participating in the limited red snapper fishing season. In addition, representatives of the state natural resource agencies reported that fishing effort was limited during the September 2012 fishing season off the coasts of North Carolina, South Carolina and Georgia, primarily due to adverse weather conditions. Therefore, the Council reasoned that a start date prior to September would promote increased recreational effort in all the southeastern Atlantic states, and would increase the likelihood that the entire recreational ACL would be harvested while allowing more fair and equitable access to red snapper.

Comment 5: One fishing organization preferred the fishing seasons for both commercial and recreational red snapper to be set in June. They stated that a June fishing season for red snapper would overlap with the fishing season for black sea bass and would help solve the problem of red snapper bycatch and dead discards when fishermen target black sea bass. Another commenter preferred a fishing season for the commercial sector when grouper are closed (January through April each year) so that commercial fishermen have a way to make a living during this time.

Response: NMFS and the Council decided that opening the fishing season in July (or in August for the 2013 fishing year) would be effective in reducing discards of red snapper because it is likely that the red snapper fishing season, if it is to occur, would occur during the black sea bass fishing season. The fishing season for black sea bass begins on June 1, and recreational harvest of black sea bass has never been prohibited after one month of fishing, therefore, a July (or August) red snapper fishing season is just as likely to overlap with the black sea bass season as a June fishing season. Also, the Council has approved an amendment to more than double the black sea bass ACL, which if implemented, is expected to extend the length of the commercial and recreational fishing seasons for black sea bass.

In addition, Amendment 28 establishes a process to determine if harvest of red snapper would be allowed each year. As stated in the amendment, the red snapper estimated landings and dead discards that occurred in the previous year would first become available around March of each year. At that time, NMFS would begin the evaluation of red snapper landings and total removals to determine if a season can occur. The goal is to ensure that the most accurate and complete set of landings and total removals are used while also providing as much notice to fishermen as possible to prepare for a limited red snapper fishing season. Season start dates of January through April or June are problematic because the estimated landings and dead discards from the previous year are typically not available until March, and if a limited fishing season can occur, adequate notice of that season needs to be given to fishermen and other members of the public.

Comment 6: Some commenters want the recreational fishing seasons to occur on all days of the week, not just weekends. One commenter, a retiree, reported that he did not want to fish when “weekend warriors” were around. Another commenter stated that work prevented him from fishing on weekends. One commenter wants to start the commercial and recreational fishing seasons on the same day.

Response: The majority of recreational fishermen fish on the weekends, and weekend-only seasons would provide the majority of recreational fishermen access to the resource when they are not working. Commercial fishermen generally fish during weekdays rather than weekends; as such, the Council decided not to align the commercial and recreational sectors by starting the fishing seasons on the same day.

Comment 7: One environmental organization was concerned that based on the current recreational sampling methods and estimates for red snapper, the ACL may be exceeded without a better defined method to capture landings during the short red snapper fishing season. This organization encouraged the establishment of a standardized reporting method for red snapper because they believe the Marine Recreational Information Program (MRIP) is not designed to capture and estimate catch and effort with significant precision for such a short fishing season. They stated that the MRIP-calculated red snapper catch was highly imprecise and, based on MRIP's own recommendation, estimates with over a 50-percent proportional standard error are highly imprecise. The commenters noted that using one set of data (MRIP and Southeast Region Headboat Survey (SRHS)), the catch was below the 2012 recreational ACL; however, using the other data (MRIP, Florida Fish and Wildlife Conservation Commission estimates, and SHRS), the recreational ACL was exceeded.

Response: NMFS agrees that MRIP catch and effort estimates alone may be imprecise for short fishing seasons and additional sampling methods and surveys would improve the precision of catch and effort estimates of red snapper. Therefore, MRIP is not the only data source utilized to determine red snapper catch and effort information in the South Atlantic. Various standardized reporting methodologies, designed to capture recreational data, exist for all species managed by NMFS and the Council in the South Atlantic. For example, SRHS estimates recreational landings and discards from headboats in the U.S. South Atlantic and Gulf of Mexico. MRIP provides estimated catch per unit effort, total effort, landings, and discards for six 2-month periods (waves) each year. MRIP provides estimates for three recreational fishing modes: Shore-based fishing, private and rental boat fishing, and for-hire charter and guide fishing. Both SRHS and MRIP were used to provide estimates for red snapper mortality during 2012, and will be used in 2013.

In addition to SRHS and MRIP, an intensive sampling program was developed and implemented by all South Atlantic states for the 2012 limited fishing season for red snapper. The goal of the sampling program was to capture fishery-dependent charter and private angler data from the 6-day recreational red snapper season. Numerous survey methods were used within the sampling program to provide estimates of red snapper harvest for private boat and for-hire modes. In Florida and Georgia, these methods included a telephone survey of federally-permitted charter vessel operators to obtain catch and effort information. In South Carolina, logbooks were used to estimate charter vessel landings. In Florida, a boat-level angler intercept survey was used to obtain catch information for directed recreational trips and an inlet-based boat count survey was used to determine directed effort. Monitoring efforts also included a carcass drop-off program and tournament sampling, as well as integrated sampling of the private boat and for-hire modes for biological information and otoliths. The intent of NMFS and the states is to continue this expanded red snapper sampling program to help capture fishery dependent charter and private angler data from future red snapper seasons as they occur.

Comment 8: One environmental organization recommended that in order to mitigate some of the uncertainty in estimating the catch and effort through MRIP, the Council should, at a minimum, establish an annual catch target (ACT) for the recreational sector for red snapper.

Response: The Council did not establish an ACT during a limited red snapper fishing season because the Council determined that prescribing the exact number of fishing days allowed for the recreational sector, coupled with a one-fish bag limit, are the appropriate management controls necessary to constrain the recreational sector to its ACL. After the recreational fishing season closes, the bag and possession limits for red snapper revert back to zero, and it is unlawful to harvest or possess red snapper.

As outlined in the response to the previous comment, an intensive sampling program was developed and implemented by all the South Atlantic states to capture fishery dependent charter and private angler data from the 2012 6-day recreational red snapper season, and this program will be used in 2013 as well.

Changes From the Proposed Rule

On April 17, 2013, NMFS published in the Federal Register an interim final rule to reorganize the regulations in 50 CFR part 622 for the Gulf of Mexico, South Atlantic, and the Caribbean (78 FR 22950) into a new format, and changed the section headings for the various management measures for each fishery. The proposed rule for Amendment 28 contained an incorrect section heading in the proposed codified text (it referenced the old section heading instead of the new section heading). In § 622.191, there was a reference to § 622.49(b)(25)(i) which is now § 622.193(y)(1). This final rule corrects that reference.

Classification

The Regional Administrator, Southeast Region, NMFS has determined that this final rule is necessary for the conservation and management of South Atlantic red snapper and is consistent with Amendment 28, the FMP, the Magnuson-Stevens Act, and other applicable law.

This final rule has been determined to be not significant for purposes of Executive Order 12866.

The Chief Counsel for Regulation of the Department of Commerce certified to the Chief Counsel for Advocacy of the Small Business Administration during the proposed rule stage that this rule would not have a significant economic impact on a substantial number of small entities. The factual basis for this determination was published in the proposed rule and is not repeated here. No comments were received regarding the certification and NMFS has not received any new information that would affect its determination. As a result, a final regulatory flexibility analysis is not required and none was prepared.

List of Subjects in 50 CFR Part 622

Accountability measure, Annual catch limit, Fisheries, Fishing, Red snapper, South Atlantic.

Dated: July 19, 2013.
Alan D. Risenhoover,
Director, Office of Sustainable Fisheries, performing the functions and duties of the Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.181, paragraph (b)(2) is revised to read as follows:

§ 622.181 Prohibited and limited-harvest species.

* * * * *

(b) * * *

(2) Red snapper. Red snapper may not be harvested or possessed in or from the South Atlantic EEZ, except if NMFS determines a limited amount of red snapper may be harvested or possessed in or from the South Atlantic EEZ, as specified in § 622.193(y). Red snapper caught in the South Atlantic EEZ must be released immediately with a minimum of harm. In addition, for a person on board a vessel for which a valid Federal commercial or charter vessel/headboat permit for South Atlantic snapper-grouper has been issued, the prohibition on the harvest or possession of red snapper applies in the South Atlantic, regardless of where such fish are harvested or possessed, i.e., in state or Federal waters.

* * * * *

3. In § 622.183, paragraph (b)(5) is added to read as follows:

§ 622.183 Area and seasonal closures.

* * * * *

(b) * * *

(5) Closures of the commercial and recreational sectors for red snapper—(i) The commercial and recreational sectors for red snapper are closed (i.e., red snapper may not be harvested or possessed, or sold or purchased) in or from the South Atlantic EEZ, except if NMFS determines a limited amount of red snapper may be harvested or possessed in or from the South Atlantic EEZ, as specified in § 622.193(y). If NMFS determines that commercial and recreational fishing seasons for red snapper may be established in a given fishing year, NMFS will announce the season opening dates in the Federal Register. The recreational fishing season would consist of consecutive Fridays, Saturdays, and Sundays, unless otherwise specified. NMFS will project the length of the recreational fishing season and announce the recreational fishing season end date in the Federal Register. See 622.193(y), for establishing the end date of the commercial fishing season.

(ii) If the RA determines tropical storm or hurricane conditions exist, or are projected to exist, in the South Atlantic, during a commercial or recreational fishing season, the RA may modify the opening and closing dates of the fishing season by filing a notification to that effect with the Office of the Federal Register, and announcing via NOAA Weather Radio and a Fishery Bulletin any change in the dates of the red snapper commercial or recreational fishing season.

(iii) If the projected commercial or recreational fishing season is determined by NMFS to be 3 days or less, then the commercial or recreational fishing season will not open for that fishing year.

§ 622.185 [Amended]

4. In § 622.185, paragraph (a)(1) is removed and reserved.

5. In § 622.187, paragraphs (b)(4) and (9) are revised to read as follows:

§ 622.187 Bag and possession limits.

* * * * *

(b) * * *

(4) Snappers, combined—10. However, excluded from this 10-fish bag limit are cubera snapper, measuring 30 inches (76.2 cm), TL, or larger, in the South Atlantic off Florida, and red snapper and vermilion snapper. (See § 622.181(b)(2) for the prohibitions on harvest or possession of red snapper, except during a limited recreational fishing season, and § 622.181(c)(1) for limitations on cubera snapper measuring 30 inches (76.2 cm), TL, or larger, in or from the South Atlantic EEZ off Florida.)

* * * * *

(9) Red snapper—0, except during a limited recreational fishing season, as specified in § 622.183(b)(5), during which time the bag limit is 1 fish.

* * * * *

6. In § 622.191, paragraph (a)(9) is added to read as follows:

§ 622.191 Commercial trip limits.

* * * * *

(a) * * *

(9) Red snapper. During a limited commercial fishing season, as specified in § 622.183(b)(5), and until the commercial ACL specified in § 622.193(y)(1) is reached, 75 lb (34 kg), gutted weight. See § 622.193(y)(1) for the limitations regarding red snapper after the commercial ACL is reached.

* * * * *

7. In § 622.192, paragraph (j) is revised to read as follows:

§ 622.192 Restrictions on sale/purchase.

* * * * *

(j) No person may sell or purchase a red snapper harvested from or possessed in the South Atlantic, i.e., state or Federal waters, by a vessel for which a Federal commercial vessel permit for South Atlantic snapper-grouper has been issued, except if NMFS determines a limited commercial fishing season for red snapper is allowable, as specified in § 622.183(b)(5).

8. In § 622.193, paragraph (y) is added to read as follows:

§ 622.193 Annual catch limits (ACLs), annual catch targets (ACTs), and accountability measures (AMs).

* * * * *

(y) Red snapper—(1) Commercial sector. The commercial ACL for red snapper is zero. However, if NMFS determines that the previous year's estimated red snapper landings and dead discards are less than the ABC, limited red snapper harvest and possession may be allowed for the current fishing year and the commercial ACL value would be determined using the formula described in the FMP. The AA will file a notification with the Office of the Federal Register to announce the limited commercial ACL for the current fishing year. NMFS will monitor commercial landings during the limited season, and if commercial landings, as estimated by the SRD, reach or are projected to reach the commercial ACL, based on the formula described in the FMP, the AA will file a notification with the Office of the Federal Register to close the commercial sector for red snapper for the remainder of the year. On and after the effective date of the closure notification, all sale or purchase of red snapper is prohibited and harvest or possession of red snapper is limited to the bag and possession limits. This bag and possession limit and the prohibition on sale/purchase apply in the South Atlantic on board a vessel for which a valid Federal commercial or charter vessel/headboat permit for South Atlantic snapper-grouper has been issued, without regard to where such species were harvested or possessed, i.e., in state or Federal waters.

(2) Recreational sector. The recreational ACL for red snapper is zero. However, if NMFS determines that the previous year's estimated red snapper landings and dead discards are less than the ABC, limited red snapper harvest and possession may be allowed for the current fishing year and the recreational ACL value would be determined using the formula described in the FMP. The AA will file a notification with the Office of the Federal Register to announce the limited recreational ACL and the length of the recreational fishing season for the current fishing year. The length of the recreational fishing season for red snapper serves as the in-season accountability measure. See § 622.183(b)(5) for details on the recreational fishing season. On and after the effective date of the recreational closure notification, the bag and possession limits for red snapper are zero.

[FR Doc. 2013-17790 Filed 7-19-13; 4:15 pm]

BILLING CODE 3510-22-P